DEPARTMENT OF THE INTERIOR

Bureau of Land Management

[#A2407-014-004-065516; #O2509-014-004-125222]

Public Land Order No. 7967; National Defense Operating Area Withdrawal, San Diego and Imperial Counties, CA

AGENCY: Bureau of Land Management, Interior.

ACTION: Public Land Order (PLO).

SUMMARY: This Order withdraws, subject to valid existing rights, approximately 760.42 acres of Federal lands from settlement, sale, location, and entry under the general land laws, including the United States mining laws, mineral leasing laws, and geothermal leasing laws, for a period of 3 years for use by the Department of the Navy for border security purposes. This withdrawal also transfers administrative jurisdiction of the lands to the Department of the Navy.

DATES: This PLO takes effect on December 9, 2025.

FOR FURTHER INFORMATION CONTACT: Joseph Stout, BLM California State Director, California, telephone: 916-978-4600, email: josephstout@blm.gov.

Individuals in the United States who are deaf, deafblind, hard of hearing, or have a speech disability may dial 711 (TTY, TDD, or TeleBraille) to access telecommunications relay services to contact Mr. Stout. Individuals outside the United States should use the relay services offered within their country to make international calls to the point-of-contact in the United States.

SUPPLEMENTARY INFORMATION:

Order

By virtue of the authority vested in the Secretary of the Interior by section 204 of the Federal Land Policy and Management Act of 1976 (FLPMA), 43 U.S.C. 1714, and in accordance with subsection 204(e) of that Act, it is determined that an emergency situation exists and that extraordinary measures must be taken to preserve values that would otherwise be lost. It is therefore ordered as follows:

1. Subject to valid existing rights, the following described Federal lands are hereby withdrawn from settlement, sale, location, and entry under the general land laws, including the United States mining laws, mineral leasing laws, and geothermal leasing laws, and jurisdiction over such lands is hereby transferred to the Department of the Navy for border security purposes.

Legal Description

A strip of land of the uniform width of 60 feet, lying contiguous to and parallel with the international border between the United States and Mexico, currently subject to the Presidential Proclamation No. 758 Stat. 2136 (May 27, 1907) (commonly known as the “Roosevelt Reservation”), (unless otherwise specified), located in the Counties of San Diego and Imperial, State of California, and situate in the following described locations:

San Bernardino Meridian, California

T. 18 S., R. 1 E.,

Sec. 34, being only that 60 foot strip of land reserved by the Presidential Proclamation of May 27, 1907;

Sec. 35, lots 1 thru 4; being only that strip of land of the uniform width of 60 feet, lying contiguous to and parallel with the international border between the United States and Mexico;

Sec. 36, lots 1 thru 4; being only that strip of land of the uniform width of 50 feet, lying northerly of and adjacent to that certain strip of land, 10 feet in width, which lies northerly of and adjacent to the southerly boundary of lots 1, 2 3, and 4.

T. 18 S., R. 2 E.,

Sec. 31, being only that 60 foot strip of land reserved by the Presidential Proclamation of May 27, 1907;

Sec. 32, being only that strip of land of the uniform width of 60 feet, lying contiguous to and parallel with lot 5 and the international border between the United States and Mexico, reserved by the Presidential Proclamation of May 27, 1907;

Secs. 35 and 36, being only that 60 foot strip of land reserved by the Presidential Proclamation of May 27, 1907.

T. 18 S., R. 3 E.,

Secs. 25 thru 30, being only that 60 foot strip of land reserved by the Presidential Proclamation of May 27, 1907.

T. 18 S., R. 4 E.,

Secs. 25 thru 30, being only that 60 foot strip of land reserved by the Presidential Proclamation of May 27, 1907.

T. 18 S., R. 5 E.,

Secs. 19 thru 24 and sec. 30, being only that 60 foot strip of land reserved by the Presidential Proclamation of May 27, 1907.

T. 18 S., R. 6 E.,

Secs. 19 thru 24, being only that 60 foot strip of land reserved by the Presidential Proclamation of May 27, 1907.

T. 18 S., R. 7 E.,

Secs. 13 thru 18, being only that 60 foot strip of land reserved by the Presidential Proclamation of May 27, 1907.

T. 18 S., R. 8 E.,

Secs. 7 thru 12 and sec. 18, being only that 60 foot strip of land reserved by the Presidential Proclamation of May 27, 1907.

T. 18 S., R. 9 E.,

Sec. 2 and secs. 7 thru 11, being only that 60 foot strip of land reserved by the Presidential Proclamation of May 27, 1907.

T. 17 S., R. 10 E.,

Secs. 31 thru 35, being only that 60 foot strip of land reserved by the Presidential Proclamation of May 27, 1907.

T. 17 S., R. 11 E.,

Secs. 25 thru 31, being only that 60 foot strip of land reserved by the Presidential Proclamation of May 27, 1907.

T. 17 S., R. 12 E.,

Secs. 24 thru 30, being only that 60 foot strip of land reserved by the Presidential Proclamation of May 27, 1907.

T. 17 S., R. 13 E.,

Sec. 19, being only that 60 foot strip of land reserved by the Presidential Proclamation of May 27, 1907;

Sec. 20, being only that strip of land of the uniform width of 60 feet, lying contiguous to and parallel with lots 5 and 6, and the international border between the United States and Mexico, reserved by the Presidential Proclamation of May 27, 1907.

T. 17 S., R. 14 E.,

Sec. 19, being only that strip of land of the uniform width of 60 feet, lying contiguous to and parallel with lots 6 and 7, and the international border between the United States and Mexico, reserved by the Presidential Proclamation of May 27, 1907;

Sec. 20, being only that strip of land of the uniform width of 60 feet, lying contiguous to and parallel with lots 1 thru 3, and the international border between the United States and Mexico, reserved by the Presidential Proclamation of May 27, 1907;

Sec. 23, being only that strip of land of the uniform width of 60 feet, lying contiguous to and parallel with lots 2, 4, and that portion of land in section 23 lying southerly of the SW1/4SE1/4 of section 14, and the international border between the United States and Mexico, reserved by the Presidential Proclamation of May 27, 1907.

T. 17 S., R. 15 E.,

Sec. 13, being only that strip of land of the uniform width of 60 feet, lying contiguous to and parallel with lots 2, 10, and 11, and the international border between the United States and Mexico, reserved by the Presidential Proclamation of May 27, 1907;

Sec. 14, being only that strip of land of the uniform width of 60 feet, lying contiguous to and parallel with lot 1 and the international border between the United States and Mexico, reserved by the Presidential Proclamation of May 27, 1907.

T. 17 S., R. 16 E.,

Sec. 12, being only that strip of land of the uniform width of 60 feet, lying contiguous to and parallel with lots 1 thru 4, and the international border between the United States and Mexico, reserved by the Presidential Proclamation of May 27, 1907;

Sec. 13, being only that strip of land of the uniform width of 60 feet, lying contiguous to and parallel with lot 1 and the international border between the United States and Mexico, reserved by the Presidential Proclamation of May 27, 1907;

Sec. 14, being only that strip of land of the uniform width of 60 feet, lying contiguous to and parallel with lot 1 and the international border between the United States and Mexico, reserved by the Presidential Proclamation of May 27, 1907;

Sec. 15, being only that strip of land of the uniform width of 60 feet, lying contiguous to and parallel with lots 2, 3, 4, 7, and the international border between the United States and Mexico, reserved by the Presidential Proclamation of May 27, 1907;

Sec. 16, being only that strip of land of the uniform width of 60 feet, lying contiguous to and parallel with lots 3, 5, 12 thru 15, and the international border between the United States and Mexico, reserved by the Presidential Proclamation of May 27, 1907;

Sec. 17, being only that strip of land of the uniform width of 60 feet, lying contiguous to and parallel with lots 10 thru 13, and the international border between the United States and Mexico, reserved by the Presidential Proclamation of May 27, 1907;

Sec. 18, being only that strip of land of the uniform width of 60 feet, lying contiguous to and parallel with lots 19 thru 22, and the international border between the United States and Mexico, reserved by the Presidential Proclamation of May 27, 1907.

T. 17 S., R. 17 E.,

Secs. 7 thru 12, being only that 60 foot strip of land reserved by the Presidential Proclamation of May 27, 1907.

T. 17 S., R. 18 E.,

Secs. 1 and 7 thru 12, being only that 60 foot strip of land reserved by the Presidential Proclamation of May 27, 1907.

T. 17 S., R. 19 E.,

Secs. 1 thru 6, being only that 60 foot strip of land reserved by the Presidential Proclamation of May 27, 1907.

T. 16 S., R. 20 E.,

Secs. 57 thru 60, unsurveyed (protracted): being only that 60 foot strip of land reserved by the Presidential Proclamation of May 27, 1907.

T. 17 S., R. 20 E.,

Secs. 1 thru 3, unsurveyed (protracted): being only that 60 foot strip of land reserved by the Presidential Proclamation of May 27, 1907;

Secs. 4, 5, and 6, being only that 60 foot strip of land reserved by the Presidential Proclamation of May 27, 1907.

T. 16 S., R. 21 E.,

Secs. 31 thru 34, being only that 60 foot strip of land reserved by the Presidential Proclamation of May 27, 1907.

The area described above contains approximately 760.42 acres of Federal lands in San Diego and Imperial Counties, derived from GIS data located in the BLM California State Office.

2. This withdrawal will expire 3 years from the effective date of this Order, unless it is extended in accordance with subsections (c)(1) or (d), whichever is applicable, and (b)(1) of section 204 of Federal Land Policy and Management Act, 43 U.S.C. 1714.

Dated: December 9, 2025.
Doug Burgum,
Secretary of the Interior.

[FR Doc. 2025-22812 Filed 12-12-25; 8:45 am]

BILLING CODE 4331-15-P